DEPARTMENT OF HEALTH AND HUMAN SERVICES

Centers for Disease Control and Prevention

Improving HIV/AIDS Data Collection at the National, State and Municipal Levels in the Federative Republic of Brazil Through Strengthening HIV Surveillance Infrastructure and Building Capacity in the Use of Data for Program Evaluation and Assessment as Part of the President's Emergency Plan for AIDS Relief

Announcement Type: New.

Funding Opportunity Number: AA104.

Catalog of Federal Domestic Assistance Number: 93.067.

Key Dates:

Application Deadline: September 29, 2004.

I. Funding Opportunity Description

Authority: This program is authorized under Sections 301(a) and 307 of the Public Health Service Act [42 U.S.C. Sections 241 and 242l], as amended, and under Public Law 108-25 (United States Leadership against HIV/AIDS, Tuberculosis and Malaria Act of 2004) [22 U.S.C. 7601].

Background: President Bush's Emergency Plan for AIDS Relief has called for immediate, comprehensive and evidence-based action to turn the tide of global HIV/AIDS, and supports programs in more than 100 countries. The five-year strategy for the Emergency Plan is available at the following Internet address: http://www.state.gov/s/gac/rl/or/c11652.htm.

In Brazil, the Emergency Plan seeks to engage both governmental and non-governmental institutions at all levels to bolster the already-robust provision of care and treatment to HIV-positive people, and to strengthen prevention activities to avoid new cases of HIV.

The U.S. Department of Health and Human Services (HHS) announces the availability of Fiscal Year (FY) 2005 funds for a cooperative agreement to work with the National HIV/AIDS Program of Brazil (National Program), and Brazilian community-based and faith-based organizations, for the improvement and expansion of HIV/AIDS prevention, care and support activities in Brazil.

Purpose: The purpose of this cooperative agreement is to provide a funding mechanism and management support for HHS/CDC joint activities with the Brazilian National AIDS Program and community-based and faith-based organizations in the area of HIV/AIDS and associated diseases, including tuberculosis. Joint activities in Fiscal Year (FY) 2005 will focus on strengthening the capacity of the Brazilian National AIDS Program in two of the following areas, through cooperation between the award recipient and the National Program and HHS and its Brazilian and international partners: (1) Adapting surveillance infrastructure to respond to a concentrated epidemic; and (2) broadening the skill base of Brazilian government and non-government personnel, at the Federal, State, and municipal levels, in the use of data for program evaluation and assessment.

These collaborative activities could have a profound impact on the implementation of the Brazilian National AIDS Plan, which calls for central-level policy formulation and decentralized implementation of programs. Successful implementation of a sound monitoring and evaluation system (that includes improved research capacity for program evaluation and surveillance infrastructure), and the use of this system, will improve collection of data to direct program design; determine the effectiveness of interventions; and substantially improve the ability to make sound policy decisions. These activities will strengthen ties between the Brazilian National AIDS Program, states, municipalities and non-governmental organizations (NGOs), including faith-based organizations, that work with HIV/AIDS-related programs, and could eventually lead to significant improvements in coordination of HIV/AIDS prevention and care activities country-wide.

Measurable outcomes of the program will be in alignment with the five-year strategy for the President's Emergency Plan for AIDS Relief, and one (or more) of the following performance goal(s) for the National Center for HIV, STD and TB Prevention (NCHSTP) of the Centers for Disease Control and Prevention (CDC) within HHS: By 2010, work with other countries, international organizations, the U.S. Department of State, the U.S. Agency for International Development (USAID), and other partners to achieve the United Nations General Assembly Special Session on HIV/AIDS goal of reducing prevalence among persons 15 to 24 years of age.

This announcement is only for non-research activities supported by CDC. If applicants propose research, HHS/CDC will not review the application. For the definition of “research,” please see the HHS/CDC Web site at the following Internet address: http://www.cdc.gov/od/ads/opspoll1.htm.

Activities

Awardee Activities for this program are as follows:

1. Assist the Brazilian National HIV/AIDS Program to further build capacity within its surveillance, operational research, and monitoring and evaluation technical units.

2. Support the Brazilian National HIV/AIDS Program and community-based and faith-based organizations in increasing the skills and methodology in data use for targeted services evaluation and assessment, and to set subsequently the operational research agenda of the National Program.

3. Provide support to the Brazilian National HIV/AIDS Program for the development of national protocols and the implementation of national training programs to instruct both government and non-government staff in the areas of prevention and care of HIV and associated diseases, confidential voluntary counseling and testing (VCT), and prevention of mother-to-child transmission (PMTCT).

4. Assist the Brazilian National HIV/AIDS Program in the decentralization of program management to the regional, state and municipal levels, and in working with non-governmental organizations, including faith-based organizations.

In a cooperative agreement, HHS staff is substantially involved in the program activities, above and beyond routine grant monitoring.

HHS Activities for this program are as follows:

1. Provide technical assistance to the Brazilian National HIV/AIDS Program and community-based and faith-based organizations to develop and implement monitoring and evaluation activities, perform analyses, and provide expertise for training and capacity-building.

2. Facilitate and coordinate regional and U.S.-based international technical assistance to the project upon request (i.e., workshops, trainings and technical consultations), in the Portuguese language.

3. Organize an orientation meeting with the grantee to brief them on applicable U.S. Government, HHS, and Emergency Plan expectations, regulations and key management requirements, as well as report formats and contents. The orientation could include meetings with staff from HHS agencies and the Office of the U.S. Global AIDS Coordinator.

4. Review and approve the process used by the grantee to select key personnel and/or post-award subcontractors and/or subgrantees to be involved in the activities performed under this agreement, as part of the Emergency Plan for AIDS Relief Country Operational Plan review and approval process, managed by the Office of the U.S. Global AIDS Coordinator.

5. Review and approve grantee's annual work plan and detailed budget, as part of the Emergency Plan for AIDS Relief Country Operational Plan review and approval process, managed by the Office of the U.S. Global AIDS Coordinator.

6. Review and approve grantee's monitoring and evaluation plan, including for compliance with the strategic information guidance established by the Office of the U.S. Global AIDS Coordinator.

7. Meet on a monthly basis with grantee to assess monthly expenditures in relation to approved work plan and modify plans as necessary.

8. Meet on a quarterly basis with grantee to assess quarterly technical and financial progress reports and modify plans as necessary.

9. Meet on an annual basis with grantee to review annual progress report for each U.S. Government Fiscal Year, and to review annual work plans and budgets for subsequent year, as part of the Emergency Plan for AIDS Relief review and approval process for Country Operational Plans, managed by the Office of the U.S. Global AIDS Coordinator.

10. Provide technical assistance, as mutually agreed upon, and revise annually during validation of the first and subsequent annual work plans. This could include expert technical assistance and targeted training activities in specialized areas, such as strategic information, project management, confidential counseling and testing, palliative care, treatment literacy, and adult learning techniques.

11. Provide in-country administrative support to help grantee meet U.S. Government financial and reporting requirements

II. Award Information

Type of Award: Cooperative Agreement. HHS involvement in this program is listed in the Activities Section above.

Fiscal Year Funds: 2005.

Approximate Total Funding: $250,000 (This amount is an estimate, and is subject to availability of funds.).

Approximate Number of Awards: One.

Approximate Average Award: $83,500 (This amount is for the first 12-month budget period, and includes direct costs).

Floor of Award Range: None.

Ceiling of Award Range: $150,000 (This ceiling is for the first 12-month budget period.).

Anticipated Award Date: October 25, 2005.

Budget Period Length: 12 months.

Project Period Length: Three years.

Throughout the project period, HHS' commitment to continuation of awards will be conditioned on the availability of funds, evidence of satisfactory progress by the recipient (as documented in required reports), and the determination that continued funding is in the best interest of the Federal Government, as determined by the Office of the U.S. Global AIDS Coordinator.

III. Eligibility Information

III.1. Eligible Applicants

Limited Competition: Public or private not-for-profit organizations within Brazil that meet the following criteria may submit applications: (1) Ability to demonstrate past and current experience in collaborating with international organizations and Brazilian faith-based and community-based organizations; (2) ability to demonstrate past experience in collaborating with the National AIDS Program of Brazil (National Program); (3) ability to disburse funds to a Brazilian Federal governmental institution and to other non-governmental organizations; and (4) ability to demonstrate a strong linkage with one or more public health and/or medical university institutions and with community-based and faith-based organizations.

The National AIDS Program of the Ministry of Health of Brazil (National Program) is HHS/CDC Global AIDS Program's (GAP) primary partner in Brazil. HHS/CDC GAP Brazil's program is focused on meeting the needs of the National Program, and all program activities are planned in pursuance of this goal. HHS/CDC will provide funding to a management foundation that manages the money on behalf of the Ministry and funds its activities. HHS believes that it is in the best interest of the U.S. Government to establish the above criteria as minimum standards to ensure both the appropriate management of funds and selection of an organization that can immediately become engaged in the activities listed in this announcement; and, thus, to benefit the people of Brazil as quickly as possible.

III.2. Cost Sharing or Matching Funds

Matching funds are not required for this program. Although matching funds are not required, preference will go to organizations that can leverage additional funds to contribute to program goals.

III.3. Other

Special Requirements

If your application is incomplete or non-responsive to the special requirements listed in this section, it will not enter into the review process. You will be notified that your application did not meet submission requirements.

• HHS/CDC considers late applications non-responsive. See section “IV.3. Submission Dates and Times” for more information on deadlines.

• Applicant must document eligibility, in an appendix to their application, by submitting either letters of support from partner institutions, acknowledging cooperation, or official annual reports that document partnership with the aforementioned groups.

• Note: Title 2 of the United States Code Section 1611 states that an organization described in Section 501(c)(4) of the Internal Revenue Code that engages in lobbying activities is not eligible to receive Federal funds constituting an award, grant, or loan.

IV. Application and Submission Information

IV.1. Address To Request Application Package

To apply for this funding opportunity use application form PHS 5161-1.

HHS strongly encourages you to submit your application electronically by using the forms and instructions posted for this announcement at http://www.grants.gov.

Application forms and instructions are available on the HHS/CDC Web site, at the following Internet address: http://www.cdc.gov/od/pgo/forminfo.htm.

If you do not have access to the Internet, or if you have difficulty accessing the forms online, you may contact the HHS/CDC Procurement and Grants Office Technical Information Management Section (PGO-TIM) staff at: 770-488-2700. We can mail application forms to you.

IV. 2. Content and Form of Submission

Application: You must submit a project narrative with your application forms. You must submit the narrative in the following format:

• Maximum number of pages: 25. If your narrative exceeds the page limit, we will only review the first pages within the page limit.

• Font size: 12 point unreduced.

• Double spaced.

• Paper size: 8.5 by 11 inches.

• Page margin size: One inch.

• Printed only on one side of page.

• Held together only by rubber bands or metal clips; not bound in any other way.

• Your application MUST be submitted in English.

Your narrative should address activities to be conducted over the entire project period, and must include the following items in the order listed:

• Project Description. Demonstrate a clear and concise understanding of the nature of the problem described in the purpose section of this announcement. Describe the public health importance of the planned activities to be undertaken.

• Plan of Action. Present an overall design strategy, with proposed objectives and projects and measurable timelines. Describe how your organization will meet stated requirements. Describe the responsibilities for each of the key staff.

• Project Contribution to the Goals and Objectives of the Emergency Plan for AIDS Relief

• Evaluation. Provide a monitoring and evaluation plan for the project.

• Itemized Budget. Budget and budget justifications will not count toward the stated page limit.

You may include additional information in the application appendices. The appendices will not count toward the narrative page limit. This additional information includes the following:

• Curriculum Vitas/Resumes

• Organizational Charts

• Documentation of partnerships (letters of support, annual reports)

• Job descriptions of proposed key positions to be created for the activity

• Quality-Assurance, Monitoring-and-Evaluation, and Strategic-Information Forms

• Applicant's Corporate Capability Statement

• Letters of Support

• Evidence of Legal Organizational Structure

You must have a Dun and Bradstreet Data Universal Numbering System (DUNS) number to apply for a grant or cooperative agreement from the Federal Government. The DUNS number is a nine-digit identification number, which uniquely identifies business entities. Obtaining a DUNS number is easy, and there is no charge. To obtain a DUNS number, access http://www.dunandbradstreet.com or call 1-866-705-5711.

For more information, see the HHS/CDC Web site at: http://www.cdc.gov/od/pgo/funding/pubcommt.htm.

If your application form does not have a DUNS number field, please write your DUNS number at the top of the first page of your application, and/or include your DUNS number in your application cover letter.

Additional requirements that could require you to submit additional documentation with your application are listed in section “VI.2. Administrative and National Policy Requirements.”

IV. 3. Submission Dates and Times

Application Deadline Date: September 29, 2005.

Explanation of Deadlines: Applications must be received in the HHS/CDC Procurement and Grants Office by 4 p.m. eastern time on the deadline date.

You may submit your application electronically at http://www.grants.gov. We consider applications completed online through Grants.gov as formally submitted when the applicant organization's Authorizing Official electronically submits the application to http://www.grants.gov. We will consider electronic applications as having met the deadline if the applicant organization's Authorizing Official has submitted the application electronically to Grants.gov on or before the deadline date and time.

If you submit your application electronically with Grants.gov, your application will be electronically time/date stamped, which will serve as receipt of submission. You will receive an e-mail notice of receipt when HHS/CDC receives the application.

If you submit your application by the United States Postal Service or commercial delivery service, you must ensure the carrier will be able to guarantee delivery by the closing date and time. If HHS/CDC receives your submission after closing because of: (1) carrier error, when the carrier accepted the package with a guarantee for delivery by the closing date and time; or (2) significant weather delays or natural disasters, you will have the opportunity to submit documentation of the carrier's guarantee. If the documentation verifies a carrier problem, HHS/CDC will consider the submission as received by the deadline.

If you submit a hard copy application, HHS/CDC will not notify you upon receipt of your submission. If you have a question about the receipt of your application, first contact your courier. If you still have a question, contact the PGO-TIM staff at: 770-488-2700. Before calling, please wait two to three days after the submission deadline. This will allow time for us to process and log submissions.

This announcement is the definitive guide on application content, submission address, and deadline. It supersedes information provided in the application instructions. If your submission does not meet the deadline above, it will not be eligible for review, and we will discard it. We will notify you that you did not meet the submission requirements.

IV.4. Intergovernmental Review of Applications

Executive Order 12372 does not apply to this program.

IV.5. Funding Restrictions

Restrictions, which you must take into account while writing your budget, are as follows:

• Funds may not be used for research.

• Reimbursement of pre-award costs is not allowed.

• The purchase of antiretroviral drugs, reagents and laboratory equipment for antiretroviral treatment projects requires prior approval in writing by CDC officials.

• No funds shall be used to distribute sterile needles or syringes for the hypodermic use of any illegal drug.

• Funds may be spent for reasonable program purposes, including personnel; travel; operating costs, including supplies; fuel for transportation; utilities; staff training costs, including registration fees and purchase and rental of training related equipment; renovation of clinical or lab facilities; and purchase of HIV testing reagents, test kits and laboratory equipment for HIV testing and services. Equipment may be purchased if deemed necessary to accomplish program objectives; however, prior approval by HHS/CDC officials must be requested in writing.

• All requests for funds contained in the budget shall be stated in U.S. dollars. Once an award is made, HHS/CDC will not compensate foreign grantees for currency exchange fluctuations through the issuance of supplemental awards.

• The costs that are generally allowable in grants to domestic organizations are allowable to foreign institutions and international organizations, with the following exception: With the exception of the American University, Beirut, and the World Health Organization, Indirect Costs will not be paid (either directly or through sub-award) to organizations located outside the territorial limits of the United States or to international organizations, regardless of their location.

• The applicant may contract with other organizations under this program; however the applicant must perform a substantial portion of the activities (including program management and operations, and delivery of prevention services for which funds are required).

• You must obtain an annual audit of these HHS/CDC funds (program-specific audit) by a U.S.-based audit firm with international branches and current licensure/authority in-country, and in accordance with International Accounting Standards or equivalent standard(s) approved in writing by HHS/CDC.

• A fiscal Recipient Capability Assessment may be required, prior to or post award, in order to review the applicant's business management and fiscal capabilities regarding the handling of U.S. Federal funds.

Prostitution and Related Activities

The U.S. Government is opposed to prostitution and related activities, which are inherently harmful and dehumanizing, and contribute to the phenomenon of trafficking in persons.

Any entity that receives, directly or indirectly, U.S. Government funds in connection with this document (“recipient”) cannot use such U.S. Government funds to promote or advocate the legalization or practice of prostitution or sex trafficking. Nothing in the preceding sentence shall be construed to preclude the provision to individuals of palliative care, treatment, or post-exposure pharmaceutical prophylaxis, and necessary pharmaceuticals and commodities, including test kits, condoms, and, when proven effective, microbicides.

A recipient that is otherwise eligible to receive funds in connection with this document to prevent, treat, or monitor HIV/AIDS shall not be required to endorse or utilize a multisectoral approach to combating HIV/AIDS, or to endorse, utilize, or participate in a prevention method or treatment program to which the recipient has a religious or moral objection. Any information provided by recipients about the use of condoms as part of projects or activities that are funded in connection with this document shall be medically accurate and shall include the public health benefits and failure rates of such use.

In addition, any recipient must have a policy explicitly opposing prostitution and sex trafficking. The preceding sentence shall not apply to any “exempt organizations” (defined as the Global Fund to Fight AIDS, Tuberculosis and Malaria, the World Health Organization and its six Regional Offices, the International AIDS Vaccine Initiative or to any United Nations agency).

The following definition applies for purposes of this clause:

• Sex trafficking means the recruitment, harboring, transportation, provision, or obtaining of a person for the purpose of a commercial sex act. 22 U.S.C. 7102(9).

All recipients must insert provisions implementing the applicable parts of this section, “Prostitution and Related Activities,” in all subagreements under this award. These provisions must be express terms and conditions of the subagreement, must acknowledge that compliance with this section, “Prostitution and Related Activities,” is a prerequisite to receipt and expenditure of U.S. Government funds in connection with this document, and must acknowledge that any violation of the provisions shall be grounds for unilateral termination of the agreement prior to the end of its term. Recipients must agree that HHS may, at any reasonable time, inspect the documents and materials maintained or prepared by the recipient in the usual course of its operations that relate to the organization's compliance with this section, “Prostitution and Related Activities.”

All prime recipients that receive U.S. Government funds (“prime recipients”) in connection with this document must certify compliance prior to actual receipt of such funds in a written statement that makes reference to this document (e.g., “[Prime recipient's name] certifies compliance with the section, ‘Prostitution and Related Activities.’ ”) addressed to the agency's grants officer. Such certifications by prime recipients are prerequisites to the payment of any U.S. Government funds in connection with this document.

Recipients' compliance with this section, “Prostitution and Related Activities,” is an express term and condition of receiving U.S. Government funds in connection with this document, and any violation of it shall be grounds for unilateral termination by HHS of the agreement with HHS in connection with this document prior to the end of its term. The recipient shall refund to HHS the entire amount furnished in connection with this document in the event HHS determines the recipient has not complied with this section, “Prostitution and Related Activities.”

You may find guidance for completing your budget on the HHS/CDC Web site, at the following Internet address: http://www.cdc.gov/od/pgo/funding/budgetguide.htm.

IV.6. Other Submission Requirements

Application Submission Address: HHS/CDC strongly encourages applicants to submit electronically at: http://www.grants.gov. You will be able to download a copy of the application package from http://www.grants.gov, complete it offline, and then upload and submit the application via the Grants.gov site. We will not accept e-mail submissions. If you are having technical difficulties in Grants.gov, you may reach them by e-mail at support@grants.gov, or by phone at 1-800-518-4726 (1-800-518-GRANTS). The Customer Support Center is open from 7 a.m. to 9 p.m. eastern time, Monday through Friday.

HHS/CDC recommends that you submit your application to Grants.gov early enough to resolve any unanticipated difficulties prior to the deadline. You may also submit a back-up paper submission of your application. We must receive any such paper submission in accordance with the requirements for timely submission detailed in Section IV.3. of the grant announcement. You must clearly mark the paper submission: “BACK-UP FOR ELECTRONIC SUBMISSION.”

The paper submission must conform to all requirements for non-electronic submissions. If we receive both electronic and back-up paper submissions by the deadline, we will consider the electronic version the official submission.

We strongly recommended that you submit your grant application by using Microsoft Office products (e.g., Microsoft Word, Microsoft Excel, etc.). If you do not have access to Microsoft Office products, you may submit a PDF file. You may find directions for creating PDF files on the Grants.gov web site. Use of file formats other than Microsoft Office or PDF could make your file unreadable for our staff.

or

Submit the original and two hard copies of your application by mail or express delivery service to the following address: Technical Information Management-AA104 CDC Procurement and Grants Office U.S. Department of Health and Human Services 2920 Brandywine Road Atlanta, GA 30341

V. Application Review Information

V.1. Criteria

Applicants must provide measures of effectiveness that will demonstrate the accomplishment of the various identified objectives of the cooperative agreement. Measures of effectiveness must relate to the performance goals stated in the “Purpose” section of this announcement. Measures must be objective and quantitative, and must measure the intended outcome. Applicants must submit these measures of effectiveness with the application and will be an element of evaluation.

We will evaluate your application against the following criteria:

1. Technical Approach (25 points). Does the applicant's proposal include an overall design strategy, with measurable time lines, that is realistic, achievable, time-framed and appropriate? Does the application appropriately address regular monitoring and evaluation, and the potential effectiveness of the proposed activities in meeting objectives? Does the applicant have a commitment to train both public and private health care workers in local languages?

2. Understanding of the Problem (20 points). Does the applicant demonstrate a clear and concise understanding of the nature of the problem described in the Purpose section of this announcement? This specifically includes description of the public health importance of the planned activities to be undertaken and realistic presentation of proposed objectives and projects. Does the applicant display knowledge of the five-year strategy and goals of the President's Emergency Plan, such that it can build on these to develop a comprehensive project and meet the goals of the Emergency Plan?

3. Ability to Carry Out the Project (20 points). Does the applicant document demonstrate capability to achieve the purpose of the project and provide training in the Portuguese language?

4. Personnel (20 points). Are the professional personnel involved in this project qualified (i.e., is there evidence included of experience in working with HIV/AIDS and associated diseases and HIV surveillance and Portuguese-language fluency)?

5. Plans for Administration and Management of Projects (15 points). Are there adequate plans for administering the project and adequate financial controls to account for the finances covered under this cooperative agreement? Does the applicant have transparent and competitive procedures for performing and procurement necessary under this project?

6. Budget (not scored). Is the itemized budget for conducting the project, and its justification, reasonable and consistent with stated objectives and planned program activities, and with the five-year strategy and goals of the President's Emergency Plan and Emergency Plan activities in Brazil?

V.2. Review and Selection Process

The HHS/CDC Procurement and Grants Office (PGO) staff will review applications for completeness, and HHS Global AIDS program will review them for responsiveness. Incomplete applications and applications that are non-responsive to the eligibility criteria will not advance through the review process. Applicants will receive notification that their application did not meet submission requirements.

An objective review panel will evaluate complete and responsive applications according to the criteria listed in the “V.1. Criteria” section above. All persons who serve on the panel will be external to the U.S. Government Country Program Office. The panel may include both Federal and non-Federal participants.

In addition, the following factors could affect the funding decision:

While U.S.-based organizations are eligible to apply, we will give preference to existing national/Brazilian organizations. It is possible for one organization to apply as lead grantee with a plan that includes partnering with other organizations, preferably local. Although matching funds are not required, preference will go to organizations that can leverage additional funds to contribute to program goals.

Applications will be funded in order by score and rank determined by the review panel. HHS/CDC will provide justification for any decision to fund out of rank order.

V.3. Anticipated Announcement and Award Dates

October 25, 2005.

VI. Award Administration Information

VI.1. Award Notices

Successful applicants will receive a Notice of Award (NoA) from the HHS/CDC Procurement and Grants Office. The NoA shall be the only binding, authorizing document between the recipient and HHS/CDC. An authorized Grants Management Officer will sign the NoA, and mail it to the recipient fiscal officer identified in the application.

Unsuccessful applicants will receive notification of the results of the application review by mail.

VI.2. Administrative and National Policy Requirements

45 CFR Part 74 and Part 92.

For more information on the Code of Federal Regulations, see the National Archives and Records Administration at the following Internet address: http://www.access.gpo.gov/nara/cfr/cfr-table-search.html.

The following additional requirements apply to this project:

• AR-4 HIV/AIDS Confidentiality Provisions

• AR-5 HIV Program Review Panel Requirements

• AR-12 Lobbying Restrictions

• AR-14 Accounting System Requirements

Applicants can find additional information on these requirements on the HHS/CDC Web site at the following Internet address: http://www.cdc.gov/od/pgo/funding/ARs.htm.

You need to include an additional Certifications form from the PHS 5161-1 application in your Grants.gov electronic submission only. Please refer to http://www.cdc.gov/od/pgo/funding/PHS51611Certificates.pdf. Once you have filled out the form, attach it to your Grants.gov submission as Other Attachment Forms.

VI.3. Reporting Requirements

You must provide HHS/CDC with an original, plus two hard copies, of the following reports:

1. Interim progress report, due no less than 90 days before the end of the budget period. The progress report will serve as your non-competing continuation application, and must contain the following elements:

a. Current Budget Period Activities Objectives.

b. Current Budget Period Financial Progress.

c. New Budget Period Program Proposed Activity Objectives.

d. Budget.

e. Measures of Effectiveness, including progress against the numerical goals of the President's Emergency Plan for AIDS Relief for Brazil.

f. Additional Requested Information.

2. Financial status report, no more than 90 days after the end of the budget period.

3. Final financial and performance reports, due no later than 90 days after the end of the project period.

4. Annual progress report, due no later than 90 days after the end of the budget period. Reports should include progress against the numerical goals of the President's Emergency Plan for AIDS Relief for Brazil.

Recipients must mail these reports to the Grants Management or Contract Specialist listed in the “Agency Contacts” section of this announcement.

VII. Agency Contacts

We encourage inquiries concerning this announcement.

For general questions, contact:

Technical Information Management Section, CDC Procurement and Grants Office, U.S. Department of Health and Human Services, 2920 Brandywine Road, Atlanta, GA 30341, Telephone: 770-488-2700

For program technical assistance, contact:

Brazil Contact.

William Brady, Co-Project Officer, HHS/CDC, Global AIDS Program (GAP), Brazil, Unit 3500, APO AA 34030, Telephone: 55 (61) 273-4851, E-mail: web0@cdc.gov.

Atlanta Contact.

Eddas Bennett, Co-Project Officer, 1600 Clifton Rd., MS E-04, Atlanta, GA 30333, Telephone: 404-639-6305, E-mail: ebennett@cdc.gov.

For financial, grants management, or budget assistance, contact:

Vivian Walker, Grants Management Specialist, CDC Procurement and Grants Office, U.S. Department of Health and Human Services, 2920 Brandywine Road, Atlanta, GA 30341, Telephone: 770-488-2724, E-mail: vwalker@cdc.gov.

VIII. Other Information

Applicants can find this and other HHS/CDC funding opportunity announcements on the HHS/CDC Web site, Internet address: http://www.cdc.gov (click on “Funding” then “Grants and Cooperative Agreements”), and on the Web site of the HHS Office of Global Health Affairs, Internet address: http://www.globalhealth.gov.

Dated: August 31, 2005.
William P. Nichols,
Director, Procurement and Grants Office, Centers for Disease Control and Prevention, U.S. Department of Health and Human Services.

[FR Doc. 05-17675 Filed 9-6-05; 8:45 am]

BILLING CODE 4163-18-P